MISSISSIPPI RIVER COMMISSION

Sunshine Act Meetings

Agency Holding the Meeting: Mississippi River Commission.

Time and Date: 1 p.m., December 15, 2004.

Place: Mississippi River Commission Headquarters Building, 1400 Walnut Street, Vicksburg, MS.

Status: Open to the public for observation, but not for participation.

Matters To Be Considered: The Commission will consider the Louisiana Coastal Area Ecosystem Restoration Study, Final Report and Environmental Impact Statement.

Contact Person for More Information: Mr. Stephen Gambrell, telephone (601) 634-5766.

Brenda S. Bowen,
Army Federal Register Liaison Officer.

[FR Doc. 04-25391 Filed 11-10-04; 11:22 am]

BILLING CODE 3710-GX-M